DEPARTMENT OF ENERGY

Federal Energy Regulatory Commission

[Docket Nos. RP00-477-000, RP01-18-000 and RP01-81-000]

Tennessee Gas Pipeline Company; Notice of Technical Conference

January 4, 2001.

Take notice that a technical conference to discuss the various issues raised by Tennessee's Order No. 637 filing in Docket No. RP00-477-000 and its proposed firm hourly transportation service in Docket No. RP01-81-000 will be held on Tuesday, January 23, 2001, at 10:00 am, in a room to be designated at the offices of the Federal Energy Regulatory Commission, 888 First Street, NE, Washington, DC 20426. Parties protesting aspects of Tennessee's filing should be prepared to discuss alternatives.

All interested persons and Staff are permitted to attend.

David P. Boergers,
Secretary.

[FR Doc. 01-719 Filed 1-9-01; 8:45 am]

BILLING CODE 6717-01-M